DEPARTMENT OF THE INTERIOR

National Park Service

Announcement of Subsistence Resource Commission Meeting

SUMMARY: The Superintendent of Aniakchak National Monument and the Chairperson of the Subsistence Resource Commission for Aniakchak National Monument announce a forthcoming meeting of the Aniakchak National Monument Subsistence Resource Commission. The following agenda items will be discussed:

(1) Call to order.

(2) SRC Roll Call and Confirmation of Quorum.

(3) Welcome and Introductions.

(4) Review and Adopt Agenda.

(5) Review and adopt minutes from the March 29-30, 1999 meeting.

(6) Commission Purpose.

(7) Status of Membership.

(8) Public and Agency Comments.

(9) Old Business:

a. Status of Air Taxi/Outfitter Guide Concession Permit Program.

b. Request For Resident Zone Community Status: Perryville and Ivanoff Bay.

c. Review Secretary's Response To Subsistence Hunting Program Recommendations:

1. Geographic Place Names Request.

2. Roster Regulation Proposed Rule Publication.

3. For Customary and Traditional Use Determinations: Unit 9E Brown Bear.

4. Cooperative Wildlife Studies: Unit 9E Moose and Caribou.

5. Aniakchak National Monument and Preserve Access Study Project Statement.

d. Aniakchak National Monument and Preserve Subsistence Management Plan Update.

(10) New Business:

a. October 1999 SRC Chairs Workshop Report.

1. NPS Customary Trade Regulations.

2. Resident Zone Community One-Year Residency Requirement.

3. Trapping With Firearms.

b. Federal Subsistence Program Update.

1. Bristol Bay Federal Subsistence Regional Advisory Council Report.

2. Federal Subsistence Board Proposals—Unit 9E.

(11) Public and Agency Comments.

(12) SRC Work Session (draft proposals, letters, and recommendations).

(13) Set time and place of next SRC meeting.

(14) Adjournment.

DATES: The meeting will begin at 1 p.m. on Tuesday, April 4, 2000 and conclude at approximately 6 p.m. The meeting will reconvene at 9 a.m. on Wednesday, April 5, 2000 and adjourn at approximately 1 p.m.

LOCATION: Community Subsistence Building, Chignik Lake, Alaska.

FOR FURTHER INFORMATION CONTACT: Deb Ligget, Acting Superintendent, or Donald Mike, Resource Specialist, Aniakchak National Monument, P.O. Box 7, King Salmon, Alaska 99613. Phone (907) 246-3305.

SUPPLEMENTARY INFORMATION: The Subsistence Resource Commissions are authorized under Title VIII, Section 808, of the Alaska National Interest Lands Conservation Act, Pub. L. 96-487, and operates in accordance with the provisions of the Federal Advisory Committees Act.

Robert D. Barbee,
Regional Director.

[FR Doc. 00-7681 Filed 3-28-00; 8:45 am]

BILLING CODE 4310-70-U